DEPARTMENT OF COMMERCE

International Trade Administration

North American Free-Trade Agreement, Article 1904 NAFTA Panel Reviews; Request for Panel Review

AGENCY: NAFTA Secretariat, United States Section, International Trade Administration, Department of Commerce.

ACTION: Notice of first request for panel review.

SUMMARY: On January 11, 2006, Aspen Planers Ltd., Buchanan Lumber Sales Inc. and the Buchanan affiliated mills, Downie Timber Ltd. Federated Co-operatives Ltd., Gorman Bros. Lumber Ltd., Haida Forest Products Ltd., Kenora Forest Products Ltd., Lecours Lumber Co. Ltd., Liskeard Lumber Ltd., Manitou Forest Products Ltd., Midway Lumber Mills Ltd., Mill & Timber Products Ltd., Nickel Lake Lumber, North Enderby Distribution Ltd., North Enderby Timber Ltd., Olav Haavaldsrud Timber Co. Ltd., R. Fryer Forest Products Ltd., Selkirk Specialty Wood Ltd., Tall Tree Lumber Co., Tembec Inc., and Tyee Timber Products Ltd. (collectively, “Plaintiffs”) filed a First Request for Panel Review with the United States Section of the NAFTA Secretariat pursuant to Article 1904 of the North American Free Trade Agreement. A second, third and fourth Request for Panel Review was filed on January 11, 2006 on behalf of the Canadian Lumber Remanufacturers' Alliance (“CLRA”) and each of its individual members: Alpha Lumber Mills Inc., American Bayridge Corporation, Bois Neos Inc., Brittania Lumber Company Limited, Falcon Lumber Limited, Finmac Lumber Limited, Great Lakes MSR Lumber Ltd., Hughes Lumber Specialties Inc., Les Bois d'Oeuvre Beaudoin & Gauthier Inc., Mid America Lumber, Monterra Lumber Mills Limited, Nicholson and Cates Limited, Palliser Lumber Sales Ltd., Phoenix Forest Products Inc., and Weston Forest Corp.; the Government of Canada, the Governments of the Provinces of Alberta, British Columbia, Manitoba, Ontario, and Saskatchewan, the Gouvernement du Quebec, the Governments of the Northwest Territories and the Yukon Territory, the British Columbia Lumber Trade Council and its constituent associations (The Coast Forest & Lumber Association and the Council of Forest Industries), the Ontario Forest Industries Association, the Ontario Lumber Manufacturers Association, and the Quebec Lumber Manufacturers Association; and Bois Daaquam Inc., Bois Omega Limitee, Fontaine Inc. (also known as J.A. Fontaine et fils incorporee), Maibec Industries Inc., Materaiux Blanchet, St. Pamphile, and Scierie West Brome Inc., respectively. Panel review was requested of the final results of the countervailing duty administrative review made by the United States Department of Commerce, International Trade Administration, respecting Certain Softwood Lumber Products from Canada. This determination was published in the Federal Register, (70 FR 73448) on December 12, 2005. The NAFTA Secretariat has assigned Case Number USA-CDA-2006-1904-02 to this request.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

A first Request for Panel Review was filed with the United States Section of the NAFTA Secretariat, pursuant to Article 1904 of the Agreement, on January 11, 2006, requesting panel review of the final determination described above.

The Rules provide that:

(a) A Party or interested person may challenge the final determination in whole or in part by filing a Complaint in accordance with Rule 39 within 30 days after the filing of the first Request for Panel Review (the deadline for filing a Complaint is February 10, 2006);

(b) A Party, investigating authority or interested person that does not file a Complaint but that intends to appear in support of any reviewable portion of the final determination may participate in the panel review by filing a Notice of Appearance in accordance with Rule 40 within 45 days after the filing of the first Request for Panel Review (the deadline for filing a Notice of Appearance is February 27, 2006); and

(c) The panel review shall be limited to the allegations of error of fact or law, including the jurisdiction of the investigating authority, that are set out in the Complaints filed in the panel review and the procedural and substantive defenses raised in the panel review.

Dated: January 12, 2006.
Caratina L. Alston,
United States Secretary, NAFTA Secretariat.

[FR Doc. E6-531 Filed 1-18-06; 8:45 am]

BILLING CODE 3510-GT-P